DEPARTMENT OF AGRICULTURE

Agricultural Marketing Service

7 CFR Part 1205

[Doc. No. CN-03-003]

Cotton Research and Promotion Program: Section 610 Review

AGENCY: Agricultural Marketing Service.

ACTION: Notice of regulatory review and request for comments.

SUMMARY: This document announces the Agricultural Marketing Service's (AMS) review of the Cotton Research and Promotion Program (conducted under the Cotton Research and Promotion Order), under the criteria contained in Section 610 of the Regulatory Flexibility Act (RFA).

DATES: Comments must be received by October 27, 2003.

ADDRESSES: Interested persons are invited to submit written comments concerning the notice to Whitney Rick, Chief, Research and Promotion Staff, Cotton Program, Agricultural Marketing Service, USDA, Stop 0224, 1400 Independence Avenue, SW., Washington, DC 20250. Comments should be submitted in triplicate and will be made available for public inspection at the above address during regular business hours. Comments may also be submitted electronically to: cottoncomments@usda.gov. All comments should reference the docket number and the date and page number of this issue of the Federal Register. A copy of this notice may be found at: http://www.ams.usda.gov/cotton/rulemaking.htm.

FOR FURTHER INFORMATION CONTACT: Whitney Rick, Chief, Research and Promotion Staff, Cotton Program, AMS, USDA, Stop 0224, 1400 Independence Avenue, SW., Washington, DC 20250-0224, telephone (202) 720-2259, facsimile (202) 690-1718, or e-mail at whitney.rick@usda.gov.

SUPPLEMENTARY INFORMATION: The Cotton Research and Promotion Act of 1966 (7 U.S.C. 2101 et seq.) authorized a national Cotton Research and Promotion Program which is industry operated and funded, with oversight by USDA. The program's objective is to enable cotton growers and importers to establish, finance and carry out a coordinated program of research and promotion to improve the competitive position of, and to expand markets for cotton.

The program became effective on December 31, 1966, when the Cotton Research and Promotion Order (7 CFR Part 1205) was issued. Assessments began with the 1967 cotton crop. The Order was amended and a supplemental assessment initiated, not to exceed one percent of the value of each bale, effective January 26, 1977. The current assessment is $1 per bale plus five-tenths of one percent of the value of the bale and is collected on every bale of cotton harvested and ginned in the U.S. and on imported raw cotton and on the non-U.S. cotton content of imported textile and apparel products. Assessments under this program are used to fund promotional campaigns and to conduct research in the areas of U.S. marketing, international marketing, cotton production and processing, and textile research and implementation.

The program is administered by the Cotton Board, which is composed of representatives of cotton producers and importers selected by the Secretary of Agriculture from nominations submitted by eligible producer and importer organizations. The Cotton Board has thirty-two members, thirty-two alternate members and one consumer advisor. All members and alternate members serve terms of three years.

AMS published in the Federal Register (64 FR 8014; February 18, 1999), its plan to review certain regulations, including the Cotton Research and Promotion Program (conducted under the Cotton Research and Promotion Order), under criteria contained in Section 610 of the Regulatory Flexibility Act (RFA; 5 U.S.C. 601-612). The plan was updated in the Federal Register on August 14, 2003 (68 FR 48574). Because many AMS regulations impact small entities, AMS decided, as a matter of policy, to review certain regulations which, although they may not meet the threshold requirement under section 610 of the RFA, warrant review. Accordingly, this notice and request for comments is made for the Cotton Research and Promotion Order.

The purpose of the review is to determine whether the Order should be continued without change, amended, or rescinded (consistent with the objects of the Cotton Research and Promotion Act of 1966) to minimize the impacts on small entities. AMS will consider the continued need for the order; the nature of complaints or comments received from the public concerning the order; the complexity of the order; the extent to which the order overlaps, duplicates, or conflicts with other Federal rules, and, to the extent feasible, with state and local regulations; and the length of time since the order has been evaluated or the degree to which technology, economic conditions, or other factors have changed in the area affected by the order.

Written comments, views, opinions and other information regarding the order's impact on small business are invited.

Dated: August 20, 2003.
A.J. Yates,
Administrator, Agricultural Marketing Service.

[FR Doc. 03-21788 Filed 8-25-03; 8:45 am]

BILLING CODE 3410-02-P